DEPARTMENT OF DEFENSE

Department of the Army

Notice of Intent To Grant Exclusive Patent Licenses to TroCept Micro Ltd. L.L.C.

AGENCY: Department of the Army, DoD.

ACTION: Notice of intent.

SUMMARY: In compliance with 35 U.S.C. 209(e) and 37 CFR 404.7(a)(1)(i), the Department of the Army hereby gives notice of its intent to grant to TroCept Micro Ltd. L.L.C., a corporation having its principle place of business at 2711 Centerville Rd, Suite 400, Wilmington, DE 19808, exclusive licenses relative to the following U.S. Patents:

• 6,501,099; “Modified-anode gate turn-off thyristor;” December 31, 2002.

• 6,703,642; “Silicon carbide (SiC) gate turn-off (GTO) thyristor structure for higher turn-off gain and larger voltage blocking when in the off-state;” March 9, 2004.

• 6,734,462; “Silicon carbide (SiC) gate turn-off (GTO) thyristor structure for higher turn-off gain and larger voltage blocking when in the off-state,” February 8, 2000.

• 6,759,683; “Formulation and fabrication of an improved Ni based composite Ohmic contact to n-SiC for high temperature and high power device applications;” July 6, 2004.

• 6,900,477; “Processing technique to improve the turn-off gain of a silicon carbide gate turn-off thyristor and an article of manufacture;” May 31, 2005.

• 7,297,626; “Process for nickel silicide Ohmic contacts to n-SiC;” November 20, 2007.

• 7,304,363; “Interacting current spreader and junction extender to increase the voltage blocked in the off state of a high power semiconductor device;” December 4, 2007.

• 7,851,274; “Processing technique to improve the turn-off gain of a silicon carbide gate turn-off thyristor;” December 14, 2010.

DATES: The prospective exclusive licenses may be granted unless within fifteen (15) days from the date of this published notice, the U.S. Army Research Laboratory receives written objections including evidence and argument that establish that the grant of the licenses would not be consistent with the requirements of 35 U.S.C. 209 and 37 CFR 404.7. Competing applications completed and received by the U.S. Army Research Laboratory within fifteen (15) days from the date of this published notice will also be treated as objections to the grant of the contemplated exclusive licenses.

Objections submitted in response to this notice will not be made available to the public for inspection and, to the extent permitted by law, will not be released under the Freedom of Information Act, 5 U.S.C. 552.

ADDRESSES: Send written objections to Michael D. Rausa, U.S. Army Research Laboratory, Office of Research and Technology Applications, Attn: RDRL-DB/Bldg. 434, Aberdeen Proving Ground, MD 21005-5425.

FOR FURTHER INFORMATION CONTACT: Michael D. Rausa, telephone (410) 278-5028.

SUPPLEMENTARY INFORMATION: None.

Brenda S. Bowen,
Army Federal Register Liaison Officer.

[FR Doc. 2012-10169 Filed 4-26-12; 8:45 am]

BILLING CODE 3710-08-P